AGENCY FOR INTERNATIONAL DEVELOPMENT

Notice of December 1, 2015 President's Global Development Council Meeting

AGENCY: United States Agency for International Development.

ACTION: Notice of meeting.

SUMMARY: The President's Council on Global Development will meet on December 1, 2015 in Washington, DC at 12:15 p.m. Eastern Time. The meeting will be open to the public via live webcast. Details for the webcast can be found at http://www.whitehouse.gov/administration/advisory-boards/global-development-council. The purpose of this meeting is to solicit public input on key global development issues. The President's Global Development Council will focus the discussion on issues of financial inclusion.

DATES:

Date: Tuesday, December 1, 2015.

Time: 12:15 p.m. Eastern Time.

ADDRESSES: The President's Global Development Council will convene its meeting in Washington, DC. The public is invited to submit written statements to the President's Global Development Council by any of the following methods:

Electronic Statements

• Send written statements to the President's Global Development Council's electronic mailbox at gdc@usaid.gov with the subject line “GDC Statement”; or

Paper Statements

• Send paper statements in triplicate to Jayne Thomisee, Executive Director and Designated Federal Officer, President's Global Development Council, Office of the Administrator, Room 6.8.21, U.S. Agency for International Development, 1300 Pennsylvania Avenue NW., Washington, DC 20004.

In general, all statements will be posted on the President's Global Development Council Web page (http://www.usaid.gov/gdc) without change, including any business or personal information provided such as names, addresses, email addresses, or telephone numbers. All statements received, including attachments and other supporting materials, are part of the public record and subject to public disclosure. You should only submit information that you wish to make publicly available.

FOR FURTHER INFORMATION CONTACT: Jayne Thomisee, 202-712-5506.

SUPPLEMENTARY INFORMATION: In accordance with the Federal Advisory Committee Act, notice is hearby given of a meeting of the President's Global Development Council on December 1, 2015 in Washington, DC at 12:15 p.m. Eastern Time. The meeting will be broadcast on the internet via live webcast. Details for the webcast are available at http://www.whitehouse.gov/administration/advisory-boards/global-development-council. The purpose of this meeting is to solicit public input on key global development issues. The President's Global Development Council will focus the discussion on issues of financial inclusion.

Dated: November 13, 2015.
Jayne Thomisee,
Executive Director & Policy Advisor.

[FR Doc. 2015-29703 Filed 11-19-15; 8:45 am]

BILLING CODE P